INTERNATIONAL TRADE COMMISSION

[Investigation Nos. 731-TA-825 and 826; Second Review]

Certain Polyester Staple Fiber From Korea and Taiwan

Determination

On the basis of the record ¹ developed in the subject five-year reviews, the United States International Trade Commission (Commission) determines, pursuant to section 751(c) of the Tariff Act of 1930 (19 U.S.C. 1675(c)), that revocation of the antidumping duty orders on certain polyester staple fiber from Korea and Taiwan would be likely to lead to continuation or recurrence of material injury to an industry in the United States within a reasonably foreseeable time.

¹ The record is defined in sec. 207.2(f) of the Commission's Rules of Practice and Procedure (19 CFR 207.2(f)).

Background

The Commission instituted these reviews on March 1, 2011 (76 FR 11268) and determined on June 6, 2011 that it would conduct expedited reviews (76 FR 37830, June 28, 2011).

The Commission transmitted its determination in these reviews to the Secretary of Commerce on September 13, 2011. The views of the Commission are contained in USITC Publication 4257 (September 2011), entitled Certain Polyester Staple Fiber From Korea and Taiwan: Investigation Nos. 731-TA-825 and 826 (Second Review).

By order of the Commission.
Issued: September 13, 2011.
James R. Holbein,
Secretary to the Commission.

[FR Doc. 2011-23907 Filed 9-16-11; 8:45 am]

BILLING CODE 7020-02-P